NUCLEAR REGULATORY COMMISSION

[Docket No. 50-389]

Florida Power and Light Company, et al.; St. Lucie Plant, Unit No. 2; Exemption

1.0 Background

The Florida Power and Light Company, et al. (FPL, the licensee) is the holder of Facility Operating License No. NPF-16, which authorizes operation of St. Lucie Unit No. 2. The license provides, among other things, that the facility is subject to all rules, regulations, and orders of the U.S. Nuclear Regulatory Commission (NRC, the Commission) now or hereafter in effect.

The facility consists of a pressurized water reactor located in St. Lucie County, Florida.

2.0 Request/Action

Title 10 of the Code of Federal Regulations (10 CFR), Part 50, Section 55a, requires that inservice testing (IST) of certain American Society of Mechanical Engineers (ASME) Code Class 1, 2, and 3 pumps and valves be performed in accordance with Section XI of the ASME Boiler and Pressure Vessel Code. As stated in 10 CFR 50.55a(f)(4)(ii), IST programs are to be conducted in successive 120-month intervals. These programs must comply with the requirements of the latest edition and addenda of the Code incorporated by reference in 10 CFR 50.55a(b)(2) twelve months prior to the start of the 120-month interval. Section 50.55a(f)(5)(i) of 10 CFR requires that a licensee's IST program be revised in order to meet these requirements.

By letter dated November 27, 2000, the licensee requested an exemption from the requirements of 10 CFR 50.55a(f)(4)(ii) and 10 CFR 50.55a(f)(5)(i) in order to revise the IST 120-month interval dates for St. Lucie Unit 2. St. Lucie Unit 2 is currently in its second 120-month interval, which began on August 8, 1993. The licensee proposes to have the end date of the second interval for Unit 2 retroactively changed to February 10, 1998, to coincide with the end date of the second interval for Unit 1.

In summary, the second IST interval for St. Lucie Unit 2 would be shortened so that the third and future IST intervals for both units would coincide.

3.0 Discussion

Pursuant to 10 CFR 50.12, the Commission may, upon application by any interested person or upon its own initiative, grant exemptions from the requirements of 10 CFR Part 50, when (1) the exemptions are authorized by law, will not present an undue risk to public health or safety, and are consistent with the common defense and security; and (2) when special circumstances are present. These include the special circumstances that application of the regulation is not necessary to achieve the underlying purpose of the rule. The underlying purpose of the rule is to assure operational readiness of pumps and valves, whose function is required for safety, by conducting an IST program in accordance with the requirements of the ASME Code, and periodically updating the program to ensure that new code requirements are incorporated.

At the beginning of the third interval for Unit 1, the licensee also voluntarily updated the Unit 2 program to the then-required edition (1989) of the ASME Code. If the current schedule for Unit 2 were maintained, the second interval would end on August 7, 2003. At that time, the Unit 2 program would be updated to the 1995 edition of the ASME Code. The proposed exemption would effectively delay implementation of the 1995 edition until February 10, 2008, when the fourth interval for both units would commence if the proposed exemption is granted.

Periodic full- or substantial-flow testing of Emergency Core Cooling System pumps is one of the safety enhancements offered by the 1995 edition of the Code. This testing is currently being performed on both units during refueling outages, so the licensee already realizes this safety enhancement. Therefore, operational readiness of pumps and valves, whose function is required for safety, will be adequately assured using the existing Code requirements until February 8, 2008. At that time, the licensee will update the IST programs for both Units 1 and 2 to the latest edition and addenda.

Therefore, the staff concludes that strict adherence to the 120-month interval is not necessary to achieve the underlying purpose of 10 CFR 50.55a(f)(4)(ii) and 50.55a(f)(5)(i), and pursuant to 10 CFR 50.12(a)(2)(ii) special circumstances are present.

4.0 Conclusion

Accordingly, the Commission has determined that, pursuant to 10 CFR 50.12(a), the exemption is authorized by law, will not endanger life or property or common defense and security, and is, otherwise, in the public interest. Also, special circumstances are present. Therefore, the Commission hereby grants FPL an exemption from the requirements of 10 CFR 50.55a(f)(4)(ii) and 10 CFR 50.55a(f)(5)(i) for St. Lucie Unit No. 2, based on the circumstances described herein.

Pursuant to 10 CFR 51.32, the Commission has determined that the granting of this exemption will not have a significant effect on the quality of the human environment (66 FR 30236).

This exemption is effective upon issuance.

Dated at Rockville, Maryland, this 12th day of June 2001.
For the Nuclear Regulatory Commission.
Cynthia A. Carpenter,
Acting Director, Division of Licensing Project Management, Office of Nuclear Reactor Regulation.

[FR Doc. 01-15271 Filed 6-15-01; 8:45 am]

BILLING CODE 7590-01-P